DEPARTMENT OF ENERGY

Federal Energy Regulatory Commission

[Docket No. CP20-436-000]

Texas Eastern Transmission, LP; Notice of Schedule for Environmental Review of the Appalachia to Market Project

On May 1, 2020, Texas Eastern Transmission, LP filed an application in Docket No. CP20-436-000 requesting a Certificate of Public Convenience and Necessity pursuant to Section 7(c) of the Natural Gas Act to construct and operate certain natural gas pipeline facilities. The proposed Project is known as the Appalachia to Market Project (Project), and would provide up to 18,000 dekatherms per day of firm natural gas transportation service to UGI Utilities Inc. at an existing delivery point near Reading, Pennsylvania.

On May 11, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA September 15, 2020

90-day Federal Authorization Decision Deadline December 14, 2020

If a schedule change becomes necessary, additional notice will be provided so that the relevant agencies are kept informed of the Project's progress.

Project Description

The Appalachia to Market Project would consist of the following facilities and actions, all in Pennsylvania. Specifically, Texas Eastern would construct:

• Approximately 0.8 mile of 30-inch-diameter pipeline loop ¹ in the same-trench as a segment of an abandoned 30-inch-diameter pipe (that would be removed for this project) on the Texas Eastern system in Westmoreland County;

¹ A pipeline loop is a segment of pipe constructed parallel to an existing pipeline to increase capacity.

• one crossover at the existing Bechtelsville pig ²-launcher site in Berks County;

² A “pig” is a tool that the pipeline company inserts into and pushes through the pipeline for cleaning the pipeline, conducting internal inspections, or other purposes.

• one crossover at the existing Uniontown pig-receiver site in Fayette County; and

• other related appurtenances.

Background

On May 18, 2020, the Commission issued a Notice of Intent to Prepare an Environmental Assessment for the Proposed Appalachia to Market Project and Request for Comments on Environmental Issues (NOI). The NOI was sent to affected landowners; federal, state, and local government agencies; elected officials; environmental and public interest groups; Native American tribes; other interested parties; and local libraries and newspapers.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/docs-filing/ferconline.asp to register for eSubscription.

Additional information about the Project is available from the Commission's Office of External Affairs at (866) 208-FERC or on the FERC website (www.ferc.gov). Using the “eLibrary” link, select “General Search” from the eLibrary menu, enter the selected date range and “Docket Number” excluding the last three digits (i.e., CP20-436), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: July 22, 2020.
Nathaniel J. Davis, Sr.,
Deputy Secretary.

[FR Doc. 2020-16307 Filed 7-27-20; 8:45 am]

BILLING CODE 6717-01-P